DEPARTMENT OF AGRICULTURE

Forest Service

Tongass National Forest; Ketchikan-Misty Fiords Ranger District; Alaska; Saddle Lakes Timber Sale Environmental Impact Statement

AGENCY: Forest Service, USDA.

ACTION: Corrected notice of intent to prepare an environmental impact statement; correction.

SUMMARY: A Notice of Intent (NOI) to prepare an Environmental Impact Statement for the Saddle Lakes Timber Sale project was published in the Federal Register (77 FR 27013) on May 8, 2012. Due to the length of time that has passed since the first NOI was published, and changes in the dates that the Draft and Final Environmental Impact Statements are expected, the Tongass National Forest is publishing this Corrected NOI. Additionally, the United States Department of Agriculture published a final rule in the Federal Register (78 FR 18481-18504) on March 27, 2013 to establish a new process by which the public may file objections seeking predecisional administrative review of proposed projects and activities implementing land management plans documented with a Record of Decision or Decision Notice (reference 36 CFR part 218). This new process replaces the administrative appeals process at 36 CFR part 215. As the Record of Decision for the Saddle Lakes project is not expected until after September 27, 2013, the Saddle Lakes project is now subject to these new predecisional administrative review procedures.

FOR FURTHER INFORMATION CONTACT: Susan Howle, Team Leader, Ketchikan-Misty Fiords Ranger District, 3031 Tongass Avenue, Ketchikan, Alaska 99901, (907) 225-3542.

Corrections

In the Federal Register (77 FR 27013-27015) of May 8, 2012 on page 27014, in the first column, correct the DATES caption to read:

DATES: Additional opportunity for formal comments will be accepted after release of the Draft Environmental Impact Statement, which is expected to be published in October 2013. The Final Environmental Impact Statement is expected in May 2014.

In the Federal Register (77 FR 27013-27015) of May 8, 2012 on page 27014, in the first column, correct the FOR FURTHER INFORMATION CONTACT caption as follows:

Remove the contact information for Rob Reeck and Linda Pulliam. Correct the caption to read:

FOR FURTHER INFORMATION CONTACT: ; or Susan Howle, Team Leader, telephone (907) 225-3542, also at the Ketchikan-Misty Fiords Ranger District, 3031 Tongass Avenue, Ketchikan, Alaska 99901.

In the Federal Register (77 FR 27013-27015) of May 8, 2012 on page 27015, in the first column, after last paragraph, correct by adding the following under “Scoping Process” caption:

Scoping Process: Forest Service regulations at 36 CFR part 218, Subparts A and B, published March 27, 2013 (78 FR 18481-18504) regarding the project-level predecisional administrative review process applies to projects and activities implementing land management plans that are not authorized under the Healthy Forest Restoration Act. This proposed project is subject to 36 CFR part 218. Instead of an appeal period, there will be an objection process before the final decision is made, and after the Final Environmental Impact Statement and draft Record of Decision are mailed (reference 36 CFR 218.7). Individuals and entities as defined in 36 CFR 218.2 who have submitted timely, specific written comments (see 36 CFR 218.2) regarding a proposed project or activity that is subject to these regulations during any designated opportunity for public comment may file an objection. Objections will be accepted only from those who have previously submitted timely, specific written comments regarding the proposed project during scoping, the 45-day DEIS comment period, or other public involvement opportunity where written comments are requested by the responsible official in accordance with 36 218.5(a).

Dated: June 7, 2013.
Forrest Cole,
Forest Supervisor, Tongass National Forest.

[FR Doc. 2013-14136 Filed 6-14-13; 8:45 am]

BILLING CODE 3410-11-P